DEPARTMENT OF VETERANS AFFAIRS

[OMB Control No. 2900-0616]

Proposed Information Collection (Application for Furnishing Long-Term Care Service to Beneficiaries of Veterans Affairs, and Residential Care Home Program) Activity: Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden; it includes the actual data collection instrument.

DATES: Comments must be submitted on or before July 29, 2013.

ADDRESSES: Submit written comments on the collection of information through www.Regulations.gov; or to VA's OMB Desk Officer, OMB Human Resources and Housing Branch, New Executive Office Building, Room 10235, Washington, DC 20503 (202) 395-7316. Please refer to “OMB Control No. 2900-0616” in any correspondence.

FOR FURTHER INFORMATION CONTACT: Crystal Rennie, Enterprise Records Service (005R1B), Department of Veterans Affairs, 810 Vermont Avenue NW., Washington, DC 20420, (202) 632-7492, fax (202) 632-7583 or email crystal.rennie@va.gov. Please refer to “OMB Control No. 2900-0616.”

SUPPLEMENTARY INFORMATION: Title: Residential Care Home Program—Sponsor Application, VA Form 10-2407.

OMB Control Number: 2900-0616.

Type of Review: Revision of a currently approved collection.

Abstract: VA Form 10-2407 is an application used by a residential care facility or home that wished to provide residential home care to Veterans. It serves as the agreement between VA and the residential care home that the home will submit to an initial inspection and comply with requirements for residential care. An agency may not conduct or sponsor, and a person is not required to respond to a collection of information unless it displays a currently valid OMB control number.

Affected Public: Business or other for-profit.

Estimated Annual Burden: 42 hours.

Estimated Average Burden per Respondent: 5 minutes.

Frequency of Response: One time.

Estimated Number of Respondents: 500.

Dated: June 24, 2013.
By direction of the Secretary.
Crystal Rennie,
VA Clearance Officer, U.S. Department of Veterans Affairs.

[FR Doc. 2013-15378 Filed 6-26-13; 8:45 am]

BILLING CODE 8320-01-P